DEPARTMENT OF HEALTH AND HUMAN SERVICES

Centers for Disease Control and Prevention

Board of Scientific Counselors, National Center for Public Health Informatics

In accordance with section 10(a)(2) of the Federal Advisory Committee Act (Pub. L. 92-463), the Centers for Disease Control and Prevention (CDC) announces the following committee meetings:

Name: Board of Scientific Counselors, National Center for Public Health Informatics.

Times and Dates: 10 a.m.-5 p.m., June 5, 2008. 8:30 a.m.-12:30 p.m., June 6, 2008.

Place: Auditorium A, Global Communications Center, Building 19, 1600 Clifton Road, NE., Atlanta, Georgia 30333.

Status: Open to the public, limited only by the space available.

Please Note: Due to current security measures, a valid government issued identification card with photo is required for admittance into the Roybal facility. Non-U.S. citizens wishing to attend should contact: Thomas G. Savel, M.D., telephone, (404) 498-2475. The deadline for notification of attendance is May 22, 2008.

Purpose: The board provides advice to the Secretary, HHS, and the Director, CDC, on strategies and goals for the programs and research within the national center; conducts peer-review of scientific programs; and monitors the overall strategic direction and focus of the national center. The board also performs second-level peer review of applications for grants-in-aid for research and research training activities, cooperative agreements, and research contract proposals relating to the broad areas within the national center.

Matters to be Discussed: The agenda will include an overview of the National Center for Public Health Informatics (NCPHI), including its mission, scope and goals. Participants will give detailed presentations of select intramural and extramural NCPHI activities. NCPHI intramural activity topics include biosurveillance, electronic laboratory reporting, and health information exchanges; extramural NCPHI activities include those involving its five Centers of Excellence in Public Health Informatics. Discussions focusing on future NCPHI program activities are also planned.

Agenda items are subject to change as priorities dictate.

Contact Person for More Information: Thomas G. Savel, M.D., Designated Federal Official, National Center for Public Health Informatics, CDC, 1600 Clifton Road, NE., Mail Stop E-78, Atlanta, Georgia 30333; Telephone, (404) 498-2475.

The Director, Management Analysis and Services Office has been delegated the authority to sign Federal Register notices pertaining to announcements of meetings and other committee management activities for both the Centers for Disease Control and Prevention and the Agency for Toxic Substances and Disease Registry.

Dated: May 9, 2008.
Elaine L. Baker,
Director, Management Analysis and Services Office, Centers for Disease Control and Prevention.

[FR Doc. E8-11328 Filed 5-20-08; 8:45 am]

BILLING CODE 4163-18-P